DEPARTMENT OF TRANSPORTATION

Federal Aviation Administration

Agency Information Collection Activities: Requests for Comments; Clearance of Renewed Approval of Information Collection: Reporting of Information Using Special Airworthiness Information Bulletin

AGENCY: Federal Aviation Administration (FAA), DOT.

ACTION: Notice and request for comments.

SUMMARY: In accordance with the Paperwork Reduction Act of 1995, FAA invites public comments about our intention to request the Office of Management and Budget (OMB) approval to renew an information collection. The FAA issues Special Airworthiness Information Bulletins (SAIBs) to alert, educate, and make recommendations to the aviation community and individual aircraft owners and operators about ways to improve the safety of a product. They may include requests for voluntary reporting of results from requested actions/inspections. This reported information is used to help the FAA assess whether a potential unsafe condition warrants issuance of an airworthiness directive (AD).

DATES: Written comments should be submitted by May 9, 2011.

FOR FURTHER INFORMATION CONTACT: Carla Scott on (202) 267-9895, or by e-mail at: Carla.Scott@faa.gov.

SUPPLEMENTARY INFORMATION:

OMB Control Number: 2120-0731.

Title: Reporting of Information Using Special Airworthiness Information Bulletin.

Form Numbers: No FAA forms associated with this collection.

Type of Review: Renewal of an information collection.

Background: One of the FAA's primary functions is to require the correction of an unsafe condition under Title 14 of the Code of Federal Regulations (14 CFR) part 39 for type certificated products (that is aircraft, aircraft engines, propellers, or appliances) by means of an airworthiness directive (AD). A special airworthiness information bulletin (SAIB) is an important tool that helps the FAA to gather information to determine whether an AD is necessary. An SAIB alerts, educates, and make recommendations to the aviation community and individual aircraft owners and operators about ways to improve the safety of a product. It contains non-regulatory information and guidance that is advisory and may include recommended actions or inspections with a request for voluntary reporting of inspection results.

Respondents: Approximately 1,120 owners/operators.

Frequency: Information is collected on occasion.

Estimated Average Burden per Response: 30 minutes.

Estimated Total Annual Burden: 933 hours.

ADDRESSES: Send comments to the FAA at the following address: Ms. Carla Scott, Room 712, Federal Aviation Administration, IT Enterprises Business Services Division, AES-200, 800 Independence Ave., SW., Washington, DC 20591.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC, on March 3, 2011.
Carla Scott,
FAA Information Collection Clearance Officer, IT Enterprises Business Services Division, AES-200.

[FR Doc. 2011-5465 Filed 3-9-11; 8:45 am]

BILLING CODE 4910-13-P